DEPARTMENT OF COMMERCE

International Trade Administration

President's Advisory Council on Doing Business in Africa

AGENCY: International Trade Administration, Department of Commerce.

ACTION: Notice of an opportunity to apply for membership on the President's Advisory Council on Doing Business in Africa.

SUMMARY: The Department of Commerce is currently seeking applications for membership on the 2019-2021 term of the President's Advisory Council (Advisory Council) on Doing Business in Africa. The purpose of the Advisory Council is to advise the President through the Secretary of Commerce on strengthening commercial engagement between the United States and Africa. This term, the Secretary is particularly interested in advice on advancing President Trump's new strategy for Africa.

DATES: All applications for immediate consideration for appointment must be received by the Office of Africa by 5:00 p.m. Eastern Daylight Time (EDT) on March 18, 2019. After that date, the International Trade Administration (ITA) will continue to accept applications under this notice for a period of up to two years from the deadline to fill any vacancies that may arise.

ADDRESSES: Please submit applications by email to dbia@trade.gov, attention: Ashley Bubna and Giancarlo Cavallo, Designated Federal Officers, President's Advisory Council on Doing Business in Africa, Office of Africa, or by mail to Ashley Bubna and Giancarlo Cavallo, Designated Federal Officers, President's Advisory Council on Doing Business in Africa, Office of Africa, 1401 Constitution Avenue NW, Suite 22004, Washington, DC 20230.

FOR FURTHER INFORMATION CONTACT: Ashley Bubna or Giancarlo Cavallo, Designated Federal Officers, President's Advisory Council on Doing Business in Africa, Department of Commerce, 1401 Constitution Ave. NW, Room 22004, Washington, DC 20230, telephone: 202-482-5205, email: dbia@trade.gov, Ashley.Bubna@trade.gov, Giancarlo.Cavallo@trade.gov.

SUPPLEMENTARY INFORMATION: The President's Advisory Council on Doing Business in Africa (Advisory Council) was established pursuant to Executive Order No. 13675 dated August 5, 2014, and continued by Executive Order 13811 until September 30, 2019. The Advisory Council was established in accordance with the provisions of the Federal Advisory Committee Act (FACA), as amended, 5 U.S.C. App., to advise the President through the Secretary of Commerce (Secretary) on strengthening commercial engagement between the United States and Africa.

The Department of Commerce, International Trade Administration, Office of Africa, is accepting applications for Advisory Council members. The Advisory Council shall provide information, analysis, and recommendations to the President that address the following, in addition to other topics deemed relevant by the President, the Secretary, or the Advisory Council:

(i) Creating jobs in the United States and Africa through trade and investment;

(ii) Developing strategies by which the U.S. private sector can identify and take advantage of trade and investment opportunities in Africa;

(iii) Building lasting commercial partnerships between the U.S. and African private sectors;

(iv) Facilitating U.S. business participation in Africa's infrastructure development;

(v) Contributing to the growth and improvement of Africa's agricultural sector by encouraging partnerships between U.S. and African companies to bring innovative agricultural technologies to Africa;

(vi) Making available to the U.S. private sector an accurate understanding of the opportunities presented for increasing trade with and investment in Africa;

(vii) Developing and strengthening partnerships and other mechanisms to increase U.S. public and private sector financing of trade with and investment in Africa;

(viii) Analyzing the effect of policies in the United States and Africa on U.S. trade and investment interests in Africa;

(ix) Identifying other means to expand commercial ties between the United States and Africa; and

(x) Building the capacity of Africa's young entrepreneurs to develop trade and investment ties with U.S. partners.

Executive Order 13675, as amended, provides that the Advisory Council shall consist of not more than 26 private sector corporate members, including small businesses and representatives from infrastructure, agriculture, consumer goods, banking, services, and other industries. The Secretary of Commerce intends to make appointments under this notice up to the current number of Advisory Council members, consistent with the Executive Order and the Advisory Council charter.

The Advisory Council shall be broadly representative of the key industries with business interests in the functions of the Advisory Council as set forth above. Each Advisory Council member shall serve as the representative of a U.S. company engaged in activities involving trade, investment, development or finance with African markets. The Department particularly seeks applicants who are active executives (Chief Executive Officer, Executive Chairman, President or comparable level of responsibility); however, for very large companies, a person having substantial responsibility for the company's commercial activities in Africa may be considered.

For eligibility purposes, a “U.S. company” is a for-profit firm incorporated in the United States or with its principal place of business in the United States that is (a) majority controlled (more than 50 percent ownership interest and/or voting stock) by U.S. citizens or by another U.S. entity or (b) majority controlled (more than 50 percent ownership interest and/or voting stock) directly or indirectly by a foreign parent company. Members are not required to be a U.S. citizen; however, members may not be registered as a foreign agent under the Foreign Agents Registration Act. Additionally, no member shall represent a company that is majority owned or controlled by a foreign government entity or entities.

Members of the Advisory Council will be selected, in accordance with applicable Department of Commerce guidelines, based on their ability to carry out the objectives of the Advisory Council as set forth above. Members shall be selected in a manner that ensures that the Advisory Council is balanced in terms of points of view, industry subsector, activities in and with African markets, range of products and services, demographics, geography, and company size. Additional factors which will be considered in the selection of Advisory Council members include candidates' proven leadership and experience in the trade, investment, financing, development, or other commercial activities between the United States and Africa. Priority may be given to active executives (Chief Executive Officer, Executive Chairman, President or comparable level of responsibility). Appointments to the Advisory Council shall be made without regard to political affiliation.

The Secretary appoints the members of the Advisory Council in consultation with the Trade Promotion Coordinating Committee (TPCC), a Federal interagency group led by the Secretary and tasked with coordinating export promotion and export financing activities of the U.S. Government and development of a government-wide strategic plan to carry out such activities. Members shall serve a term of two years, at the pleasure of the Secretary.

Members shall serve in a representative capacity, representing the views and interests of their particular industry sector. Advisory Council members are not special government employees, and will receive no compensation for their participation in Advisory Council activities. Members participating in Advisory Council meetings and events will be responsible for their travel, living and other personal expenses. Meetings will be held regularly and, to the extent practical, not less than twice annually, in Washington, DC, or other locations as feasible. Teleconference meetings may also be held as needed.

To be considered for membership, submit the following information by 5:00 p.m. EDT on March 18, 2019 to the email or mailing address listed in the ADDRESSES section:

1. Name and title of the individual requesting consideration.

2. A sponsor letter from the applicant on his or her company letterhead containing a brief statement of why the applicant should be considered for membership on the Advisory Council. This sponsor letter should also address the applicant's experience and leadership related to trade, investment, financing, development, or other commercial activities between the United States and Africa.

3. The applicant's personal resume and short bio (less than 300 words).

4. An affirmative statement that the applicant meets all eligibility criteria, including an affirmative statement that the applicant is not required to register as a foreign agent under the Foreign Agents Registration Act of 1938, as amended.

5. Information regarding the ownership and control of the company, including the stock holdings as appropriate, signifying compliance with the criteria set forth above.

6. The company's size, product or service line, and major markets in which the company operates.

7. A profile of the company's trade, investment, development, finance, partnership, or other commercial activities in or with African markets.

8. Brief statement describing how the applicant will contribute to the work of the Advisory Council based on his or her unique experience and perspective (not to exceed 100 words).

Fred Stewart,
Director, Office of Africa.
GM FRN Certifier:
Anthony Diaz,
Program Analyst.

[FR Doc. 2019-03171 Filed 2-22-19; 8:45 am]

BILLING CODE 3510-DR-P